DEPARTMENT OF COMMERCE

National Oceanic and Atmospheric Administration

Agency Information Collection Activities; Submission to the Office of Management and Budget (OMB) for Review and Approval; Comment Request; Resident Perceptions of Offshore Wind Energy Development Off the Oregon Coast

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 3, 2022 (87 FR 59781) during a 60-day comment period. This notice allows for an additional 30 days for public comments.

Agency: National Oceanic & Atmospheric Administration (NOAA), Commerce.

Title: Resident Perceptions of Offshore Wind Energy Development off the Oregon Coast.

OMB Control Number: 0648-0744.

Form Number(s): None.

Type of Request: Reinstatement with change.

Number of Respondents: 4,617.

Average Hours per Response: Focus groups: 1 hour; Questionnaire: 20 minutes.

Total Annual Burden Hours: 1,571.

Needs and Uses: Pursuant to E.O. 14057 (Executive Order on Catalyzing Clean Energy Industries and Jobs Through Federal Sustainability), the Outer Continental Shelf Land Act, the National Environmental Policy Act, and the Coastal Zone Management Act, this request is for a reinstatement of an information collection with change. This information collection will focus on a different geographical location (the coast of Oregon) and include focus groups, which will help guide any revisions necessary to the survey instrument.

The BOEM Pacific OCS Region has an active Renewable Energy Program and is currently processing wind and wave energy lease requests. Due to the relatively steep continental slope and deep water off the West Coast, different types of offshore renewable energy technologies have been proposed for the Pacific Region than for the Atlantic Region. Outside of official public engagement forums, preferences about offshore wind energy development generally remain unknown for members of the public, as well as for groups who may not perceive themselves as stakeholders. Failure to gain the perspective of communities regarding potential benefits or impacts is problematic, particularly when latent stakeholders to local projects emerge late in the planning process.

The National Ocean Service (NOS) proposes to collect data on the opinions, values, and attitudes of Oregon Coast residents relative to offshore wind energy development. Respondents (age 18 years and older) will be randomly sampled from households in seven coastal counties. This information will be used by BOEM, NOAA, and others to understand what is important to communities; understand how differing values and perceptions across communities influence local receptivity to proposed development; and improve communication efforts targeted to residents, enabling agencies to more effectively and efficiently direct outreach and community inclusion activities. Additionally, NOAA has a vested interest in offshore wind energy development, from many perspectives, including as it relates to the resilience, well-being, and sustainability of coastal communities.

Affected Public: Individuals or households.

Frequency: This is a one-time information collection for this region, although the collection may be deployed to other regions in the future.

Respondent's Obligation: Voluntary.

Legal Authority: NOAA's Programmatic Authority—Integrated Coastal and Ocean Observation System Act (33 U.S.C. 3601 et seq.); BOEM's Programmatic Authority—Outer Continental Shelf Lands Act (43 U.S.C. 1346).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0744.

Sheleen Dumas,
Department PRA Clearance Officer, Office of the Chief Information Officer, Commerce Department.

[FR Doc. 2022-28148 Filed 12-23-22; 8:45 am]

BILLING CODE 3510-JS-P